DEPARTMENT OF HOMELAND SECURITY

Coast Guard

[Docket No. USCG-2008-0333]

Delaware River and Bay Oil Spill Advisory Committee; Meeting Cancelled

AGENCY: Coast Guard, DHS.

ACTION: Notice of cancellation of meeting.

SUMMARY: The Delaware River and Bay Oil Spill Advisory Committee (DRBOSAC) meeting scheduled for March 17, 2010 in Philadelphia, PA and published in the Federal Register on March 2, 2010 (75 FR 9426) is cancelled.

FOR FURTHER INFORMATION CONTACT: Gerald Conrad, Liaison to the DFO of the DRBOSAC, (215) 271-4824.

Dated: March 12, 2010.
Joseph M. Re,
Captain, U.S. Coast Guard, Office of Performance Management (CG-0954).

[FR Doc. 2010-5834 Filed 3-12-10; 3:45 pm]

BILLING CODE 9110-04-P